DEPARTMENT OF HOMELAND SECURITY

Coast Guard

33 CFR Parts 101 and 104

[USCG-2004-17350]

Interpretation of International Voyage for Security Regulations

AGENCY: Coast Guard, DHS.

ACTION: Notice of interpretation.

SUMMARY: The Coast Guard is issuing an interpretation of the term “international voyage” as it is used in our recently-issued maritime security regulations. This interpretation will assist U.S. flag vessels operating in the waters of a foreign country in determining whether they must comply with the new International Ship and Port Facility Security Code (ISPS) requirements of the International Convention for Safety of Life at Sea, 1974 (SOLAS).

DATES: Effective April 6, 2004. Comments and related material must reach the Docket Management Facility on or before July 6, 2004.

ADDRESSES: You may submit comments identified by Coast Guard docket number USCG-2004-17350 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: For questions on this notice, please contact Lieutenant Commander Martin Walker, Project Manager, Office of Compliance (G-MOC-1), U.S. Coast Guard Headquarters, telephone 202-267-1047. If you have questions on viewing or submitting material to the docket, call Ms. Andrea M. Jenkins, Program Manager, Docket Operations, telephone 202-366-0271.

SUPPLEMENTARY INFORMATION:

Background and Purpose

On October 22, 2003, we published a final rule entitled “Vessel Security” (68 FR 60483), which was one of six maritime security rules published in the Federal Register that date. The vessel security rule, specifically 33 CFR 104.297, requires owners or operators of U.S. flag vessels that are subject to the International Convention for Safety of Life at Sea, 1974, (SOLAS), to obtain an International Ship Security Certificate (ISSC), as described in 46 CFR 2.01-25, by July 1, 2004. The ISSC certifies that the ship has an approved ship security plan and that it complies with the applicable requirements of SOLAS chapter XI-2 and Part A, taking into account Part B, of the International Ship and Port Facility Security Code (ISPS).

In 33 CFR 101.105 of the “Implementation of National Maritime Security Initiatives” final rule, we included a definition of “international voyage” that applies to 33 CFR chapter I, subchapter H, including part 104, Vessel Security. To clarify one aspect of this security-related definition, we are issuing this notice.

For purposes of vessel security, in interpreting 33 CFR 101.105 and 104.297, the Coast Guard will consider that each voyage of a U.S. vessel originates at a port in the United States, regardless of when the voyage actually began. Such a voyage is considered to continue, until such time as the U.S.-flagged vessel returns to the United States. U.S. vessels operating from a foreign port will be considered to be on an international voyage.

Therefore, any U.S. vessel that otherwise meets the applicable tonnage or capacity requirements in SOLAS for a cargo or passenger vessel that is engaged on an international voyage must meet ISPS requirements and obtain an ISSC, within the prescribed timeline.

Comments and Viewing Documents Referenced in This Notice

If you wish to submit comments regarding this notice, please send them to the Docket Management Facility at the address under ADDRESSES. All comments received will be posted, without change, to http://dms.dot.gov and will include any personal information you have provided. We have an agreement with the Department of Transportation (DOT) to use the Docket Management Facility. Please see DOT's “Privacy Act” paragraph below.

Submitting comments: If you submit a comment, please include your name and address, and identify the docket number (USCG-2004-17350). You may submit your comments and material by electronic means, mail, fax, or delivery to the Docket Management Facility at the address under ADDRESSES; but please submit your comments and material by only one means. If you submit them by mail or delivery, submit them in an unbound format, no larger than 81/2 by 11 inches, suitable for copying and electronic filing. If you submit them by mail and would like to know that they reached the Facility, please enclose a stamped, self-addressed postcard or envelope.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Dated: March 25, 2004.
T.H. Gilmour,
Rear Admiral, U.S. Coast Guard, Assistant Commandant for Marine Safety, Security and Environmental Protection.

[FR Doc. 04-7792 Filed 4-5-04; 8:45 am]

BILLING CODE 4910-15-U